SOCIAL SECURITY ADMINISTRATION

Agency Information Collection Activities: Comment Request

The Social Security Administration (SSA) publishes a list of information collection packages requiring clearance by the Office of Management and Budget (OMB) in compliance with Public Law (Pub. L.) 104-13, the Paperwork Reduction Act of 1995, effective October 1, 1995. This notice includes revisions to OMB-approved information collections.

SSA is soliciting comments on the accuracy of the agency's burden estimate; the need for the information; its practical utility; ways to enhance its quality, utility, and clarity; and ways to minimize the burden on respondents, including the use of automated collection techniques or other forms of information technology. Mail, email, or fax your comments and recommendations on the information collection(s) to the OMB Desk Officer and the SSA Reports Clearance Officer to the addresses or fax numbers shown below.

(OMB) Office of Management and Budget, Attn: Desk Officer for SSA, Fax: 202-395-6974, E-mail address: OIRA_Submission@omb.eop.gov.

(SSA) Social Security Administration, DCBFM, Attn: Reports Clearance Officer, 1332 Annex Building, 6401 Security Blvd., Baltimore, MD 21235, Fax: 410-965-6400, E-mail address: OPLM.RCO@ssa.gov.

SSA has submitted the information collections we list below to OMB for clearance. Your comments on the information collections would be most useful if OMB and SSA receive them within 30 days from the date of this publication. To be sure we consider your comments, we must receive them no later than August 17, 2009. You can obtain a copy of the OMB clearance packages by calling the SSA Reports Clearance Officer at 410-965-3758 or by writing to the above email address.

1. Appointed Representative Services—0960-0732. SSA uses Form SSA-1699 to register the following people:

• Individuals appointed as representatives;

• Individuals who will perform advocacy services on behalf of an appointed representative;

• Individuals who will act on behalf of an appointed representative and want access to our electronic services; and

• Individuals who will serve as administrators for an entity appointed as a representative.

By registering these individuals, SSA: (1) Authenticates and authorizes them to do business with us; (2) allows them access to our records for the claimants they represent; (3) facilitates direct payment of authorized fees to appointed representatives; and (4) collects information needed to meet IRS requirements to issue specific IRS forms, if we pay these representatives in excess of a specific amount ($600).

This information collection request is for changes we will implement later in the year. The respondents are appointed claimant representatives.

Type of Request: Revision to an OMB approved information collection.

Modality of Completion
Modality of completion | Number of respondents | Frequency of response | Average burden per response (minutes) | Estimated annual burden (hours)
SSA-1699 (paper form) | 52,800 | 1 | 30 | 26,400
Internet-based SSA-1699 | 13,200 | 1 | 22 | 4,840
Totals | 66,000 |  |  | 31,240

¹¹ 17 CFR 200.30-3(a)(12).

2. Electronic Records Express (Third Parties)—20 CFR 404.1700-404.1715—0960-0767. Electronic Records Express is an online system that enables medical providers and various third party representatives to submit disability claimant information electronically to SSA as part of the disability application process. We are adding a new functionality for third parties who use this system.

Type of Request: Revision of an existing OMB-approved information collection.

Number of Respondents: 6,000.

Frequency of Response: 40.

Average Burden per Response: 1 minute.

Estimated Annual Burden: 44,000 hours.

Dated: July 6, 2009.
John Biles,
Reports Clearance Officer, Center for Reports Clearance, Social Security Administration.

[FR Doc. E9-16906 Filed 7-15-09; 8:45 am]

BILLING CODE 4191-02-P